DEPARTMENT OF HEALTH AND HUMAN SERVICES

Administration for Children and Families

Proposed Information Collection Activity; Comment Request Proposed Projects

Title: Case Plan Requirement, Section 442, 471(a)(16), 475(1) and 475(5)(A) of the Social Security Act.

OMB No.: 0980-0140.

Description: The Administration for Children and Families (ACF) is requesting authority to renew an existing information collection that is expiring October 31, 2007. The collection of information for the case plan requirement is authorized by titles IV-B, Section 422 (42 U.S.C. 422), and IV-E, Sections 471 and 475 (42 U.S.C. 471 and 475) of the Social Security Act (the Act). States must develop State plans for both Titles IV-B and IV-E that are approved by the Secretary, U.S. Department of Health and Human Services. Both plans require that States maintain a case review system that periodically reviews case plans developed for each child receiving services under the Act.

Title IV-B provides for child welfare services funding and title IV-E provides for foster care maintenance payments for eligible children. Sections 442(b)(2) and (8)(A)(ii) of the Act require States to coordinate services and assistance under Federal programs, including titles IV-B and IV-E, and to ensure that States are operating a case review system that meets the review system that meets the requirements of section 475(5) of the Act.

Title IV-E funding, Section 471(a) of the Act, requires that State plans provide for the development of a case plan for each child receiving foster care maintenance payments and provide for a case review system that meets the requirements described in section 475(5)(B) of the Act with respect to each child.

The case plan is a written document that provides a narrative description of the child-specific program of care that addresses the needs of each child regarding safety, permanency and well-being. Federal regulations at 45 CFR 1356.21(g) and section 475(1) of the Act delineate the specific information that should be addressed in the case plan. ACF neither specifies a recordkeeping format for the case plan nor requires submission of the case plan to the Federal Government. Case plan information is recorded in a format developed and maintained by State child welfare agencies. Case plans are periodically reviewed under the purview of State case review systems.

In computing the number of burden hours for this information collection, ACF based the annual burden estimates on States' experiences in developing case plans.

Respondents: State title IV-B and title IV-E Agencies.

Annual Burden Estimates
Instrument | Number of respondents | Number for responses per respondent | Average burden hours per response | Total burden hours
Case Plan | 701,461 | 1 | 2.60 | 1,823,799

Estimated Total Annual Burden Hours: 1,823,799.

In compliance with the requirements of Section 3506(c)(2)(a) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary fro the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 15, 2007.
Robert Sargis,
Reports Clearance Officer.

[FR Doc. 07-2501 Filed 5-18-07; 8:45 am]

BILLING CODE 4184-01-M